FEDERAL TRADE COMMISSION

Granting of Request for Early Termination of the Waiting Period Under the Premerger Notification Rules.

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—06/07/2004
20040883 | Hospital Partners of America, Inc | Tenet Healthcare Corporation | Redding Medical Center.
20040899 | MMI Investments, L.P | NDCHealth Corporation | NDCHealth Corporation.
20040919 | Rockwood Holdings, Inc | mg technologies ag | CeramTec North America Innovative Ceramic Engineering Corp. Chemetall Corporation, Sachtleben Corporation.
20040922 | Illinois Tool Works Inc | Andre Schwitter III | Truswal Systems Corporation.
20040929 | President and Fellows of Harvard College | Suez | c/o Trigen Corporation, Trenton Energy Corporation, Trigen Building Services Corporation, Trigen-Kansas City Energy Corporation, Trigen-Maryland Steam Corporation, Trigen-Missouri Energy Corporation, Trigen-Oklahoma Energy Corporation, Trigen-Schuylkill Cogeneration, Inc., United Thermal Corporation.
20040944 | Questor Partners Fund II, L.P | Deutsche Lufthansa AG | Chef Solutions, Inc.
20040966 | Sumitomo Corporation | J.W. Childs Equity Partners II, L.P | JWC Hartz Holdings, Inc.
20040977 | KKR Millennium Fund (Overseas), Limited Partnership | KKR 1996 Fund L.P | Rockwood Specialties Group, Inc.
20040978 | KKR European Fund, Limited Partnership | KKR 1996 Fund L.P | Rockwood Holdings, Inc.
Transactions Granted Early Termination—06/08/2004
20040021 | Harrah's Entertainment, Inc | Jack B. Binion | Horseshoe Gaming Holding Corp.
20040872 | Alcoa, Inc | Russian Aluminum Management | ZAO-Prime-alum.
20040887 | Citigroup Inc | Principal Financial Group, Inc | Principal Residential Mortgage, Inc.
20040925 | DLJ Merchant Banking Partners III, L.P | KKR 1996 Fund L.P | Rockwood Holdings, Inc.
20040932 | Madison Dearborn Capital Partners IV, L.P | PF Management, Inc | Pierre Foods, Inc.
20040938 | The Genlyte Group Incorporated | The Genlyte Group Incorporated | Genlyte Thomas Group LLC, GTG Intangible Holdings LLP.
20040939 | HFCP IV (Bermuda), L.P | Lincoln National Corporation | Dial Holding Company, LLC.
20040941 | Welsh, Carson, Anderson & Stowe IX, L.P | Hillcrest HealthCare System | Healthcrest, Inc., Hillcrest HealthCare System.
20040942 | Jon Grant Lincoln | Alliance Gaming Corporation | United Coin Machine Co.
20040943 | Goense Bounds & Partners A, L.P | Andrew M. Stein | Stein Wood, Inc.
20040946 | GTCR Fund VII, L.P | Honeywell International Inc | Honeywell International Inc.
20040947 | Suns Legacy Partners, L.L.C | Phoenix Suns Limited Partnership | Phoenix Suns Limited Partnership.
20040948 | Morgan Stanley | AMR Corporation | AMR Corporation.
20040949 | Alfred A. Slifka | Repsol YPF, S.A | Chelsea Sandwich LLC., Global Companies LLC., Global Montello Group LLC.
20040950 | Richard Slifka | Repsol YPF, S.A | Chelsea Sandwich LLC, Global Companies LLC, Global Montello Group LLC.
20040951 | Symantec Corporation | Brightmail Incorporated | Brightmail Incorporated.
20040954 | Ralph Lauren | Sylvia Company LLC | RL Childrenswear Company LLC.
20040956 | GTCR Fund VIII, L.P | Winward Capital Partners II, L.P | RPSI, Inc.
20040957 | Group 1 Automotive, Inc | Jardine Matheson Holdings Limited | Jardine California Motors Limited.
20040964 | Intelsat, Ltd | Lockheed Martin Corporation | Comsat General Corporation, Comsat New Services, Inc., Lockheed Martin Global Telecommunications, LLC.
Transactions Granted Early Termination—06/09/2004
20040980 | ED&F Man Holdings Limited | Unifina Holding AG | Volcafe Holding Ltd., Volcafe International Ltd.
Transactions Granted Early Termination—06/10/2004
20040965 | Marsh & McLennan Companies, Inc | Kroll Inc | Kroll Inc.
Transactions Granted Early Termination—06/14/2004
20040889 | Siemens Aktiengesellschaft | CVC European Equity Partners L.P | Trench Electric Holding B.V.
20040896 | Matlin Patterson Global Opportunities Partners II, L.P | Duke Energy Corporation | Duke Energy Capitol of Texas, Inc., Duke Energy Enterprise, LLC, Duke Energy Hinds, LLC, Duke Energy Hot Spring, LLC, Duke Energy Marketing America, LLC, Duke Energy Marshall County, LLC, Duke Energy Murray, LLC, Duke Energy New Albany, LLC, Duke Energy Sandersville, LLC, Duke Energy Southaven, LLC, Duke Energy Trading and Marketing, LLC.
20040967 | Coinstar, Inc | Wellspring Capital Partners II, L.P | ACMI Holdings, Inc.
20040979 | Ronald O. Perelman | Charles Barton Rice, Sr | Barton Protective Services Incorporated.
20040981 | Bayerische Hypo-und Vereinsbank AG | Ramius Capital Group, LLC | RCG Tapestry, LLC.
20040985 | Charlesbank Equity Fund V. Limited Partnership | Terry Collins | Papa Murphy's International, Inc.
20040989 | CEP Batesville Acquisition, LLC | NRG Energy, Inc | LSP Batesville Funding Corporation, LSP Batesville Holding, LLC, LSP Energy Inc., LSP Energy Limited Partnership, NRG Batesville LLC.
20040993 | Entergy Corporation | Royal Dutch Petroleum Corporation | WindEnergy GP LLC. WindEnergy LP LLC.
20041000 | Continental AG | Phoenix AG | Phoenix AG.
Transactions Granted Early Termination—06/16/2004
20040962 | K2 Inc | Marmot Mountain, Ltd | Marmot Mountain, Ltd.
20040974 | Apax Europe V-A, L.P | SSL International plc | LRC Hospital Products Sdn Bhd, LRC Products Limited, SSL Americas Inc., Tubifoam.
20040988 | Castle Harlan Partners IV, L.P | ATT Holding Co | ATT Holding Co.
20040995 | E.I. du Pont de Nemours and Company | Maxygen, Inc | Verdia, Inc.
Transactions Granted Early Termination—06/17/2004
20040905 | Deluxe Corporation | New England Business Service, Inc | New England Business Service, Inc.
20040924 | Teleflex Incorporated | FS Equity Partners IV, L.P | Hudson Respiratory Care Inc.
20040994 | Harris Corporation | Donald S. Orkand | The Orkand Corporation.
20041004 | Honeywell International Inc | Genesis Cable Systems, L.L.C | Genesis Cable Systems, L.L.C.
Transactions Granted Early Termination—06/18/2004
20040969 | Kuwait Petroleum Corporation | MEGlobal Canada Inc | MEGlobal Canada Inc.
20040970 | The Dow Chemical Company | MEGlobal Canada Inc | MEGlobal Canada Inc.
20040984 | Lucent Technologies Inc | Telica, Inc | Telica, Inc.
20040999 | TPG Partners IV, L.P | Grohe Aktiengesellschaft | Grohe Aktiengesellschaft.
20041001 | Octel Corp | Starreon Corporation | Octel Starreon LLC.
20041002 | KRG Capital Fund II, L.P | Matria Healthcare, Inc | Diabetes Management Solutions, Inc., Diabetes Self Care, Inc.
20041005 | Beverly Enterprises, Inc | M. Kyle Rice | Hospice USA, LLC.
20041006 | Beverly Enterprises, Inc | Richard K. Rice | Hospice USA, LLC.
20041008 | CapStreet II, L.P | E*TRADE Financial Corporation | E*TRADE Access, Inc.
20041010 | Radio One, Inc | M.S. Stude | KRTS, LP.
20041012 | Cebridge Connections Holdings, LLC | USA Media Holdings, LLC | USA Media Group, LLC.
Transactions Granted Early Termination—06/21/2004
20040958 | Castle Harlan Partners IV, L.P | Carlyle-Horizon Partners, L.P | Horizon Lines Holding Corp.
Transactions Granted Early Termination—06/22/2004
20040945 | Schneider Electric S.A | Balfour Beatty plc | Andover Controls Corporation.
20040986 | U.S. Bancorp | National City Corporation | National City Bank, National City Bank of Indiana, National City Bank of Kentucky, National City Bank of Michigan/Illinois, National City Bank of Pennsylvania.
20041014 | Bank of America Corporation | Thomas R. Wheeler | Electronic Product Integration Corporation.
20041025 | Verizon Communications Inc | Verizon Communications Inc | CyberTel Cellular Telephone Company.
Transactions Granted Early Termination—06/23/2004
20040935 | Deutsche Post AG | Accretive Associates I, LLC | QuikPak, Inc.
20040959 | General Electric Company | Chevron Texaco Corporation | Chevron Texaco Corporation.
20040997 | Macrovision Corporation | InstallShield Software Corporation | InstallShield Software Corporation.
Transactions Granted Early Termination—06/25/2004
20040972 | Reed Elsevier PLC | Saxon Publishers, Inc | Saxon Publishers, Inc.
20040973 | Reed Elsevier NV | Saxon Publishers, Inc | Saxon Publishers, Inc.
20041016 | Brockway Moran & Partners Fund II, L.P | Air Evac Leasing Corporation | Air Evac Leasing Corporation.
20041018 | Bain Capital Fund VII, L.P | Rhodia, S.A | Rhodia Inc.
20041027 | Nautic Partners V, L.P | Wat H. Tyler | D-Rep Plastics, Inc., IPS Corporation Studor, Incorporated Watertite Products, Inc. Weld-On Adhesives, Inc.
20041032 | Bob Evans Farms, Inc | SK Equity Fund, L.P | SWH Corporation.
20041034 | James Dondero | Leap Wireless International, Inc | Leap Wireless International, Inc.
20041035 | MHR Institutional Partners IIA LP | Leap Wireless International, Inc | Leap Wireless International, Inc.
20041037 | Daniel Glassman | Pharma Services Holding, Inc | Bioglan Pharmaceuticals Company, Quintiles Bermuda Ltd. Quintiles Ireland Limited.
20041046 | Craig H. Neilsen | Windsor Woodmont Black Hawk Resort Corp | Windsor Woodmont Black Hawk Resort Corp.
20041050 | MNBA Corporation | SouthTrust Corporation | SouthTrust Bank.
Transactions Granted Early Termination—06/28/2004
20041020 | C&D Technologies, Inc | Nicholas G. Tagaris | Datel Holding Corporation.
20041023 | Oshkosh Truck Corporation | Littlejohn Partners IV, L.P | JerrDan Corporation.
Transactions Granted Early Termination—06/29/2004
20041019 | Oscar Davis | Goldline Controls, Inc | Goldline Controls Inc.
20041038 | Ryerson Tull, Inc | Arcelor S.A | J&F Steel, LLC.
20041045 | SEB SA | Waterford Wedgwood plc | All-Clad USA, Inc.
20041056 | Platinum Equity Capital Partners, L.P | Safeguard Scientifics, Inc | CompuCom Systems, Inc.
20041059 | Thomas H. Lee Equity Fund IV, L.P | TA/Advent VIII, L.P | United Pet Group, Inc.
Transactions Granted Early Termination—06/30/2004
20040692 | General Dynamics Corp | W. David Thompson | Spectrum Astro, Inc.
20040829 | Tele Atlas N.V | Stephen R. Polk | Geographic Data Technology, Inc.
20041055 | Tellabs, Inc | Advanced Fibre Communications, Inc | Advanced Fibre Communications, Inc.
Transactions Granted Early Termination—07/01/2004
20040987 | Briggs & Stratton Corporation | KMS Acquisition Company, L.P | Simplicity Manufacturing, Inc.
20041072 | Amgen Inc | Roche Holding Ltd | F. Hoffmann-La Roche Ltd., Hoffmann-La Roche Inc.
Transactions Granted Early Termination—07/02/2004
20040512 | Pentair, Inc | Wisconsin Energy Corporation | WICOR, Inc.
20041024 | Cardinal Health, Inc | Geodax Technology, Inc | Geodax Technology, Inc.
20041073 | Citigroup Inc | Arizant, Inc | Arizant, Inc.
20041082 | ABRY Partners IV, L.P | Monitronics International, Inc | Monitronics International, Inc.
20041083 | Blackstone NSS Communications Partners (Cayman) L.P | New Skies Satellites N.V | New Skies Satellites N.V.
20041088 | Regus Group plc | HQ Global Holdings, Inc | HQ Global Holdings, Inc.
20041089 | TPG N.V | NC III Limited | Wilson Logistics Holding AB.

FOR FURTHER INFORMATION CONTACT: Sandra M. Peay, Contact Representative, or Renee Hallman, Case Management Assistant, Federal Trade Commission, Premerger Notification Office, Bureau of Competition, Room H-303, Washington, DC 20580, (202) 326-3100.

By Direction of the Commission.
Donald S. Clark,
Secretary.

[FR Doc. 04-17159 Filed 7-27-04; 8:45 am]

BILLING CODE 6750-01-M